DEPARTMENT OF HEALTH AND HUMAN SERVICES

Centers for Disease Control and Prevention

[Program Announcement Number 03109]

Cooperative Agreement for Surveillance and Eradication in the Global Guinea Worm Eradication Effort; Notice of Availability of Funds

Application Deadline: July 3, 2003.

A. Authority and Catalog of Federal Domestic Assistance Number

This program is authorized under the Public Health Service Act, sections 301(a) (42 U.S.C. 241(a)), 311(42 U.S.C. 243), and 317(k)(2) (42 U.S.C. 247b(k)(2)), as amended. The Catalog of Federal Domestic Assistance number is 93.283.

B. Purpose

The Centers for Disease Control and Prevention (CDC) announces the availability of fiscal year (FY) 2003 funds for a cooperative agreement program for surveillance and eradication in the global Guinea worm eradication effort. This program addresses the “Healthy People 2010” focus areas of Immunization and Infectious Diseases.

The purpose of the program is to provide assistance for the eradication of dracunculiasis (Guinea worm disease) in all endemic countries.

Measurable outcomes of the program will be in alignment with the following performance goal for the National Center for Infectious Diseases: Protect Americans from infectious diseases.

C. Eligible Applicants

Applications may be submitted by public and private nonprofit organizations and by governments and their agencies; that is:

• Universities

• Colleges

• Technical schools

• Research Institutions

• Hospitals

• Community-based organizations

• Faith-based organizations

• Federally recognized Indian tribal governments

• Indian Tribes

• Indian tribal organizations

• State and local governments or their bona fide agents (this includes the District of Columbia, the Commonwealth of Puerto Rico, the Virgin Islands, the Commonwealth of the Northern Marianna Islands, American Samoa, Guam, the Federated States of Micronesia, the Republic of the Marshall Islands, and the Republic of Palau)

• Political subdivisions of States (in consultation with States)

Note: Title 2 of the United States Code section 1611 states that an organization described in section 501(c)(4) of the Internal Revenue Code that engages in lobbying activities is not eligible to receive Federal funds constituting an award, grant or loan.

D. Funding

Availability of Funds

Approximately $95,000 is available in FY 2003 to fund one award. It is expected that the award will begin on or about September 15, 2003, and will be made for a 12-month budget period within a project period of up to five years. The funding estimate will not change so any application exceeding $95,000 will not be considered.

A continuation award within an approved project period will be made on the basis of satisfactory progress as evidenced by required reports and the availability of funds.

Recipient Financial Participation

No matching funds are required for this program.

Funding Preferences

Preference will be extended to applicants demonstrating leadership among the recognized partners of the global Guinea worm eradication campaign, with a record of success supporting and coordinating international disease eradication campaigns, specifically in generating political will, financial support and providing technical expertise; to those organizations documenting existing infrastructure (i.e., materiel resources, staffing sufficiency, epidemiologic surveillance capacity and experience, international field experience, experience in successful eradication campaigns, and consistent experience successfully dealing with regional cross-border issues); and to those applicants demonstrating established collaboration with ministries of health in targeted countries.

E. Program Requirements

In conducting activities to achieve the purpose of this program, the recipient will be responsible for the activities listed in 1. Recipient Activities, and CDC will be responsible for the activities listed in 2. CDC Activities.

1. Recipient Activities

a. Develop and implement surveillance plans to identify, contain and report cases of dracunculiasis in the highest, secondary and tertiary priority areas endemic for Guinea worm in Africa.

b. Develop and implement interventions in targeted and priority areas.

c. Provide sufficient and adequately trained personnel.

d. Develop an evaluation plan to assess development and implementation of interventions and surveillance activities.

2. CDC Activities

a. Collaborate with the recipient on the design, development and implementation of epidemiologic studies regarding Guinea worm interventions.

b. Collaborate with the recipient on site selection in the highest priority areas of Nigeria, Ghana, and Togo, in the secondary priority areas of the tri-border region of Mali, Niger, and Burkina Faso, and in the tertiary priority areas of the remaining West African countries (i.e., Mauritania, Benin, and Cote d'Ivoire).

c. Collaborate with the recipient on assessing the use of intervention supplies and materials to specific country Guinea worm eradication programs.

d. Provide medical consultation, programmatic review, and epidemiologic assistance when and where possible in project areas during Guinea worm drives.

e. Provide technical expertise in the form of one-on-one or group consultations by phone, in person, or via formal or informal meetings.

f. Assist in the development of a research protocol for Institutional Review Board (IRB) review by all cooperating institutions participating in the research project. The CDC IRB will review and approve the protocol initially and on at least an annual basis until the research project is completed.

F. Content

Letter of Intent (LOI)

An LOI is optional for this program. The Program Announcement title and number must appear in the LOI. The narrative should be no more than one page, single-spaced, printed on one side, with one-inch margins, and unreduced 12-point font. Your letter of intent will be used to enable CDC to determine the level of interest in the announcement and should include the following information, a brief description of the proposed study, the business address of the organization, and the name and phone number of the Principal Investigator.

Applications

The Program Announcement title and number must appear in the application. Use the information in the Program Requirements, Other Requirements, and Evaluation Criteria sections to develop the application content. Your application will be evaluated on the criteria listed, so it is important to follow them in laying out your program plan. The narrative should be no more than 25 pages, double-spaced, printed on one side, with one-inch margins, and unreduced 12-point font.

The narrative should consist of Experience and Background, Implementation Plan, Capacity, Methods, Evaluation, Objectives, Measures of Effectiveness, Budget, and Human Subjects. The Implementation Plan should address activities to be conducted over the entire five year project period.

G. Submission and Deadline

Letter of Intent (LOI) Submission

On or before June 3, 2003, submit the LOI to the Grants Management Specialist identified in the “Where to Obtain Additional Information” section of this announcement.

Application Forms

Submit the signed original and two copies of PHS 398 (OMB Number 0925-0001)(Adhere to the instructions on the Errata Instruction Sheet for PHS 398). Forms are available at the following Internet address: www.cdc.gov/od/pgo/forminfo.htm.

If you do not have access to the Internet, or if you have difficulty accessing the forms on-line, you may contact the CDC Procurement and Grants Office Technical Information Management Section (PGO-TIM) at: 770-488-2700. Application forms can be mailed to you.

Submission Date, Time, and Address

The application must be received by 4 p.m. eastern time July 3, 2003. Submit the application to: Technical Information Management-PA03109, CDC Procurement and Grants Office, 2920 Brandywine Road, Atlanta, GA 30341-4146. Applications may not be submitted electronically.

CDC Acknowledgment of Application Receipt

A postcard will be mailed by PGO-TIM, notifying you that CDC has received your application.

Deadline

Letters of intent and applications shall be considered as meeting the deadline if they are received before 4 p.m. eastern time on the deadline date. Any applicant who sends their application by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Any application that does not meet the above criteria will not be eligible for competition, and will be discarded. The applicant will be notified of their failure to meet the submission requirements.

H. Evaluation Criteria

Application

Applicants are required to provide measures of effectiveness that will demonstrate the accomplishment of the various identified objectives of the cooperative agreement. Measures of effectiveness must relate to the performance goals stated in the purpose section of this announcement. Measures must be objective and quantitative and must measure the intended outcome. These measures of effectiveness must be submitted with the application and will be an element of evaluation.

An independent review group appointed by CDC will evaluate each application against the following criteria:

1. Experience and Background (30 Points)

The extent to which the applicant documents previous participation and leadership in the ongoing Guinea worm eradication effort, including provision of political support through ministries and heads of state that reflect regional coordination of resources and efforts, the applicant's grasp of the elements and magnitude of effort necessary to strategize the eradication of Guinea worm, ability to respond to unanticipated needs, and overall commitment.

2. Project Implementation Plan (20 Total Points)

a. The extent to which the applicant demonstrates knowledge of the effort needed to eradicate Guinea worm, time frames, performance standards, and management of financial and materiel resources. A demonstration of overall high quality in an implementation plan, including: (1) Compatibility with the global Guinea worm eradication effort; (2) acceptability of the plan by key partners in the Guinea worm effort; and (3) a description that indicates the applicant's understanding of relevant issues, obstacles and goals. (15 points)

b. If research involving human subjects is proposed, the degree to which the applicant has met the CDC Policy requirements regarding the inclusion of women, ethnic, and racial groups in the proposed research. This includes: (1) The proposed plan for the inclusion of both sexes and racial and ethnic minority populations for appropriate representation; (2) the proposed justification when representation is limited or absent; (3) a statement as to whether the design of proposed studies is adequate to measure differences when warranted; and (4) a statement as to whether the plans for recruitment and outreach for study participants include the process of establishing partnerships with community/ies and recognition of mutual benefits. (5 points)

3. Capacity (15 Points)

The extent to which the applicant demonstrates sufficient, existing capacity to carry out the proposed plan, including staffing proposals (with curriculum vitae, titles and roles).

4. Methods (15 Points)

The extent to which applicant describes clear, practiced and accepted methods to implement elements of a Guinea worm eradication program.

5. Evaluation (10 Points)

The feasibility of the evaluation methods or procedures to monitor proposed activities, and the evaluation criteria to measure program accomplishments.

6. Objectives (5 Points)

The extent to which (1) the stated goals are specific, measurable, realistic, and time-phased; (2) the objectives are related to the purpose(s) stated in the Program Announcement; and (3) measures are objective and quantitative.

7. Measures of Effectiveness (5 Points)

The extent to which the applicant provides Measures of Effectiveness that will demonstrate the accomplishment of the various identified objectives of the award; that such measures are objective/quantitative and adequately measure the intended outcome.

8. Budget (Not Scored)

The extent to which the budget provides detail and justification, and that they are consistent with the stated objectives and adequate to support proposed activities.

9. Protection of Human Subjects (Not Scored)

The extent to which the application adequately addresses the requirements of title 45 CFR part 46 for the protection of human subjects. (Not scored; however, an application can be disapproved if the research risks are sufficiently serious and protection against risks is so inadequate as to make the entire application unacceptable.)

I. Other Requirements

Technical Reporting Requirements

Provide CDC with original plus two copies of:

1. Interim progress report, no less than 90 days before the end of the budget period. The progress report will serve as your non-competing continuation application, and must contain the following elements:

a. Current Budget Period Activity Objectives.

b. Current Budget Period Financial Progress.

c. New Budget Period Program Proposed Activity Objectives.

d. Detailed Line-Item Budget and Justification.

e. Additional Requested Information.

2. Financial status report, no more than 90 days after the end of the budget period.

3. Final financial and performance reports, no more than 90 days after the end of the project period.

Send all reports to the Grants Management Specialist identified in the “Where to Obtain Additional Information” section of this announcement.

Additional Requirements

The following additional requirements are applicable to this program. For a complete description of each, see Attachment I of the program announcement, as posted on the CDC website.

AR-1 Human Subjects Requirements

AR-2 Requirements for Inclusion of Women and Racial and Ethnic Minorities in Research

AR-7 Executive Order 12372

AR-10 Smoke Free Work Place Requirements

AR-11 Healthy People 2010

AR-12 Lobbying Restrictions

AR-15 Proof of Non-Profit Status

AR-22 Research Integrity

J. Where To Obtain Additional Information

This and other CDC announcements, the necessary applications, and associated forms can be found on the CDC Web site, Internet address: http://www.cdc.gov. Click on “Funding” then “Grants and Cooperative Agreements.”

For general questions about this announcement, contact: Technical Information Management, CDC Procurement and Grants Office, 2920 Brandywine Road, Atlanta, GA 30341-4146. Telephone: 770-488-2700.

For business management and budget assistance, contact: Yolanda Sledge, Grants Management Specialist, Procurement and Grants Office, Centers for Disease Control and Prevention, 2920 Brandywine Road, Atlanta, GA 30341-4146. Telephone: 770-488-2787. E-mail Address: yis0@cdc.gov.

For program technical assistance, contact: Linda A. Webb, Public Health Advisor (MS/F22), Centers for Disease Control and Prevention, 4770 Bufford Highway, NE., Atlanta, GA 30341-4146. Telephone: 770/488-7784. E-mail address: law6@cdc.gov.

Dated: May 13, 2003.
Sandra R. Manning,
Director, Procurement and Grants Office, Centers for Disease Control and Prevention.

[FR Doc. 03-12399 Filed 5-16-03; 8:45 am]

BILLING CODE 4163-18-P